FEDERAL DEPOSIT INSURANCE CORPORATION

Meetings; Sunshine Act

Notice of Meeting Held with less than Seven Days Advance Notice

TIME AND DATE: 10:00 a.m. on July 15, 2025.

PLACE: The meeting was held in the FDIC Board Room, 550 17th Street NW, Washington, DC, and was webcast to the public.

STATUS: Open to public observation via webcast.

MATTERS TO BE CONSIDERED: Pursuant to the provisions of the “Government in the Sunshine Act” (5 U.S.C. 552b), notice is given that the Federal Deposit Insurance Corporation's Board of Directors met in open session to consider the following matters:

Summary Agenda

Notice of Proposed Rulemaking regarding Community Reinvestment Act Regulations.

Notice of Proposed Rulemaking regarding Establishment and Relocation of Branches and Offices.

Notice regarding Parent Companies of Industrial Banks and Industrial Loan Companies; Withdrawal of Proposed Rule.

Notice regarding Regulatory Publication and Review Under the Economic Growth and Regulatory Paperwork Reduction Act of 1996.

Minutes of a Board of Directors' Meeting Previously Distributed.

Discussion Agenda

Notice regarding Proposed Amendments to FDIC Guidelines for Appeals of Material Supervisory Determinations.

Notice of Proposed Rulemaking regarding Adjusting and Indexing Part 363 and Certain Other FDIC Regulatory Thresholds.

Request for Information regarding Industrial Banks and Industrial Loan Companies and Their Parent Companies.

CONTACT PERSON FOR MORE INFORMATION: For further information, please contact Debra A. Decker, Executive Secretary, FDIC, at FDICBoardMatters@fdic.gov.

Authority: 5 U.S.C. 552b.

Dated at Washington, DC, on July 15, 2025.
Federal Deposit Insurance Corporation
Debra A. Decker,
Executive Secretary.

[FR Doc. 2025-13440 Filed 7-15-25; 4:15 pm]

BILLING CODE 6714-01-P